DEPARTMENT OF STATE

[Public Notice 3680]

Notice of Meetings; United States International Telecommunication Advisory Committee Telecommunication Development Sector (ITAC-D)

The Department of State announces meetings of the U.S. International Telecommunication Advisory Committee. The purpose of the Committee is to advise the Department on policy and technical issues with respect to the International Telecommunication Union. Meetings will be held at the Department of State, 2201 “C” Street, NW., Washington, DC.

The IATC-D will meet from 10 a.m. to noon on July 18, and August 1, 2001 to prepare for the September meeting of ITU-D Study Groups 1 and 2. Both meetings will be in Room 2533A in Main State.

Members of the general public may attend these meetings. Directions to meeting locations and actual room assignments may be determined by calling the Secretariat at 202 647-0965/2592. For meetings held at the Department of State: entrance to the building is controlled; people intending to attend any of the ITAC meetings should send an e-mail to samuelsrn@state.gov no later than 48 hours before the meeting for preclearance. This e-mail should display the name of the meeting and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: July 2, 2001.
Doreen McGirr,
Director, Telecommunication Development Sector, U.S. Department of State.

[FR Doc. 01-17835 Filed 7-13-01; 8:45 am]

BILLING CODE 4710-45-M